DEPARTMENT OF ENERGY

Federal Energy Regulatory Commission

Combined Notice of Filings #1

Take notice that the Commission received the following exempt wholesale generator filings:

Docket Numbers: EG25-60-000.

Applicants: Redfield PV I, LLC.

Description: Redfield PV I, LLC submits Notice of Self-Certification of Exempt Wholesale Generator Status.

Filed Date: 12/11/24.

Accession Number: 20241211-5231.

Comment Date: 5 p.m. ET 1/1/25.

Take notice that the Commission received the following Complaints and Compliance filings in EL Dockets:

Docket Numbers: EL25-37-000.

Applicants: Voltus, Inc. v. Midcontinent Independent System Operator, Inc.

Description: Complaint of Voltus, Inc. v. Midcontinent Independent System Operator, Inc.

Filed Date: 12/11/24.

Accession Number: 20241211-5134.

Comment Date: 5 p.m. ET 12/31/24.

Take notice that the Commission received the following electric rate filings:

Docket Numbers: ER10-2881-040; ER10-2882-040; ER10-2883-038; ER10-2884-038; ER17-2401-010; ER17-2404-010; ER16-2509-009; ER17-2400-010; ER17-2403-010.

Applicants: SP Pawpaw Solar, LLC, SP Butler Solar, LLC, Rutherford Farm, LLC, SP Sandhills Solar, LLC, SP Decatur Parkway Solar, LLC, Georgia Power Company, Mississippi Power Company, Southern Power Company, Alabama Power Company.

Description: Supplement to 06/30/2023 Triennial Market Power Analysis for Southeast Region of Alabama Power Company et al.

Filed Date: 12/11/24.

Accession Number: 20241211-5295.

Comment Date: 5 p.m. ET 1/1/25.

Docket Numbers: ER24-1906-001.

Applicants: Cheyenne Light, Fuel and Power Company.

Description: Compliance filing: Order Nos. 2023 and 2023—A Further Compliance Filing to be effective 7/1/2024.

Filed Date: 12/12/24.

Accession Number: 20241212-5184.

Comment Date: 5 p.m. ET 1/2/25.

Docket Numbers: ER24-2825-001.

Applicants: Southwest Power Pool, Inc.

Description: Compliance filing: Compliance Filing Revising SPP Tariff to Implement JTIQ Framework to be effective 11/14/2024.

Filed Date: 12/12/24.

Accession Number: 20241212-5040.

Comment Date: 5 p.m. ET 1/2/25.

Docket Numbers: ER24-2871-002.

Applicants: Midcontinent Independent System Operator, Inc.

Description: Compliance filing: 2024-12-12_JTIQ Compliance to be effective 11/14/2024.

Filed Date: 12/12/24.

Accession Number: 20241212-5199.

Comment Date: 5 p.m. ET 1/2/25.

Docket Numbers: ER24-3049-001.

Applicants: PJM Interconnection, L.L.C.

Description: Tariff Amendment: Response to Deficiency Letter to be effective 8/15/2024.

Filed Date: 12/12/24.

Accession Number: 20241212-5077.

Comment Date: 5 p.m. ET 1/2/25.

Docket Numbers: ER25-695-000.

Applicants: Midcontinent Independent System Operator, Inc.

Description: § 205(d) Rate Filing: 2024-12-12_SA 3436 Entergy Mississippi-Ragsdale Solar 2nd Rev GIA (J830) to be effective 12/3/2024.

Filed Date: 12/12/24.

Accession Number: 20241212-5078.

Comment Date: 5 p.m. ET 1/2/25.

Docket Numbers: ER25-696-000.

Applicants: Ameren Illinois Company.

Description: § 205(d) Rate Filing: 2024-12-12_SA 4410 Ameren IL-Camp Creek Wind E&P (J1701) to be effective 12/13/2024.

Filed Date: 12/12/24.

Accession Number: 20241212-5080.

Comment Date: 5 p.m. ET 1/2/25.

Docket Numbers: ER25-697-000.

Applicants: Midcontinent Independent System Operator, Inc.

Description: § 205(d) Rate Filing: 2024-12-12_SA 4288 Ameren IL-Panther Solar B912 1st Rev GIA (J1306) to be effective 2/11/2025.

Filed Date: 12/12/24.

Accession Number: 20241212-5129.

Comment Date: 5 p.m. ET 1/2/25.

Docket Numbers: ER25-698-000.

Applicants: Northern States Power Company, a Minnesota corporation.

Description: § 205(d) Rate Filing: 2024-12-12 BUFO SISA 765-0.0.0 to be effective 12/13/2024.

Filed Date: 12/12/24.

Accession Number: 20241212-5135.

Comment Date: 5 p.m. ET 1/2/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 12, 2024.
Carlos D. Clay,
Acting Deputy Secretary.

[FR Doc. 2024-29979 Filed 12-17-24; 8:45 am]

BILLING CODE 6717-01-P